OFFICE OF PERSONNEL MANAGEMENT

Excepted Service; September 2012

AGENCY: U.S. Office of Personnel Management (OPM).

ACTION: Notice.

SUMMARY: This notice identifies Schedule A, B, and C appointing authorities applicable to a single agency that were established or revoked from September 1, 2012, to September 30, 2012.

FOR FURTHER INFORMATION CONTACT: Senior Executive Resources Services, Executive Resources and Employee Development, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

No schedule A authorities to report during September 2012.

Schedule B

No schedule B authorities to report during September 2012.

Schedule C

The following Schedule C appointing authorities were approved during September 2012.

Agency name | Organization name | Position title | Authorization number | Effective date
DEPARTMENT OF EDUCATION | Office of the Secretary | Confidential Assistant | DB120035 | 9/7/2012
| Office of Innovation and Improvement | Special Assistant | DB120091 | 9/13/2012
| Office of Communications and Outreach | Confidential Assistant | DB120089 | 9/21/2012
GENERAL SERVICES ADMINISTRATION | Office of the Administrator | Deputy Press Secretary | GS120026 | 9/21/2012
| Northwest/Arctic Region | Special Assistant | GS120027 | 9/21/2012
DEPARTMENT OF HOMELAND SECURITY | Office of the Assistant Secretary for Policy | Confidential Assistant | DM120169 | 9/11/2012
DEPARTMENT OF HOUSING AND URBAN DEVELOPMENT | Office of the Deputy Secretary | Senior Advisor | DU120044 | 9/5/2012
DEPARTMENT OF JUSTICE | Civil Division | Counsel | DJ120095 | 9/11/2012
| Office of the Associate Attorney General | Counsel and Chief of Staff | DJ120096 | 9/11/2012
| Environment and Natural Resources Division | Special Assistant and Counsel | DJ120097 | 9/11/2012
| Civil Rights Division | Senior Counsel | DJ120098 | 9/11/2012
SELECTIVE SERVICE SYSTEM | Office of the Director | Chief of Staff | SS120004 | 9/21/2012
DEPARTMENT OF STATE | Office of Global Food Security | Special Assistant | DS120120 | 9/13/2012
| Office of Global Women's Issues | Staff Assistant | DS120117 | 9/21/2012
DEPARTMENT OF THE TREASURY | Assistant Secretary for Financial Institutions | Policy Analyst | DY120120 | 9/7/2012
UNITED STATES INTERNATIONAL TRADE COMMISSION | Office of the Chairman | Executive Assistant | TC120009 | 9/11/2012
| Office of the Chairman | Confidential Assistant | TC120010 | 9/11/2012
| Office of the Chairman | Staff Assistant (Legal) | TC120011 | 9/11/2012

The following Schedule C appointing authorities were revoked during September 2012.

Agency | Organization | Position title | Authorization number | Vacate date
DEPARTMENT OF COMMERCE | Assistant Secretary for Market Access and Compliance | Senior Advisor | DC120139 | 9/4/2012
| Office of Executive Secretariat | Confidential Assistant | DC120057 | 9/7/2012
| Office of the General Counsel | Deputy General Counsel for Strategic Initiatives | DC110125 | 9/8/2012
DEPARTMENT OF EDUCATION | Office of the Secretary | Confidential Assistant | DB090111 | 9/8/2012
| Office of Communications and Outreach | Deputy Assistant Secretary for Communication Development | DB090079 | 9/22/2012
DEPARTMENT OF ENERGY | National Nuclear Security Administration | Deputy Press Secretary | DE110135 | 9/8/2012
DEPARTMENT OF HOMELAND SECURITY | Office of Assistant Secretary for Legislative Affairs | Senior Advisor to the Assistant Secretary for Legislative Affairs | DM110010 | 9/27/2012
| Office of the Assistant Secretary for Intergovernmental Affairs | State and Local Coordinator | DM110224 | 9/28/2012
DEPARTMENT OF JUSTICE | Civil Division | Counsel | DJ090227 | 9/22/2012
| Environment and Natural Resources Division | Special Assistant | DJ100022 | 9/22/12
DEPARTMENT OF THE AIR FORCE | Office of the General Counsel | Special Assistant | DF090046 | 9/15/2012
DEPARTMENT OF THE INTERIOR | Secretary's Immediate Office | Special Assistant | DI120018 | 9/8/2012
DEPARTMENT OF THE NAVY | Department of the Navy | Special Assistant | DN110016 | 9/8/2012
DEPARTMENT OF VETERANS AFFAIRS | Office of the Secretary and Deputy | Special Assistant to the Deputy Secretary | DV110007 | 9/22/2012
OFFICE OF THE SECRETARY OF DEFENSE | Office of Principal Deputy Under Secretary for Policy | Staff Assistant | DD090087 | 9/24/2012

Authority: 5 U.S.C. 3301 and 3302; E.O. 10577, 3 CFR, 1954-1958 Comp., p. 218.

John Berry
Director. U.S. Office of Personnel Management.

[FR Doc. 2012-27679 Filed 11-13-12; 8:45 am]

BILLING CODE 6325-39-P